DEPARTMENT OF TRANSPORTATION

Federal Aviation Administration

14 CFR Part 39

[Docket No. 2003-CE-51-AD; Amendment 39-13857; AD 2004-23-02]

RIN 2120-AA64

Airworthiness Directives; Raytheon Aircraft Company 65, 90, 99, 100, 200, and 1900 Series Airplanes, and Models 70 and 300 Airplanes

AGENCY: Federal Aviation Administration (FAA), DOT.

ACTION: Final rule.

SUMMARY: The FAA supersedes Airworthiness Directive (AD) 87-22-01 R1, which applies to certain Raytheon Aircraft Company (Raytheon) 65, 90, 99, 100, 200, and 1900 series airplanes, and Models 70 and 300 airplanes. AD 87-22-01 R1 currently requires you to repetitively inspect the nose landing gear (NLG) fork for cracks. If cracks are found that exceed certain limits, AD 87-22-01 R1 requires you to replace the NLG fork with a serviceable part or an improved NLG fork (Kit No. 101-8030-1 S or Kit No. 114-8015-1 S, as applicable). Incorporating an improved NLG fork kit terminates the repetitive inspection requirements. This AD is the result of FAA's policy (since 1996) to disallow airplane operation when known cracks exist in primary structure. This AD retains the inspection requirements of AD 87-22-01 R1, requires you to incorporate an improved NLG fork kit anytime a crack is found, and adds additional airplanes to the applicability section of this AD. We are issuing this AD to detect and correct cracks in the NLG fork, which could result in reduced structural integrity and inability of the NLG fork to carry design limit and ultimate loads. The reduced residual strength may cause separation failure of the NLG fork, which could result in loss of control of the airplane during take off, landing, and taxi operations.

DATES: This AD becomes effective on December 23, 2004.

As of December 23, 2004, the Director of the Federal Register approved the incorporation by reference of certain publications listed in the regulation.

ADDRESSES: You may get the service information identified in this AD from Raytheon Aircraft Company, 9709 E. Central, Wichita, Kansas 67201-0085; telephone: (800) 429-5372 or (316) 676-3140.

You may view the AD docket at FAA, Central Region, Office of the Regional Counsel, Attention: Rules Docket No. 2003-CE-51-AD, 901 Locust, Room 506, Kansas City, Missouri 64106. Office hours are 8 a.m. to 4 p.m., Monday through Friday, except Federal holidays.

FOR FURTHER INFORMATION CONTACT: Steven E. Potter, Aerospace Engineer, Wichita Aircraft Certification Office (ACO), FAA, 1801 Airport Road, Wichita, Kansas 67209; telephone: (316) 946-4124; facsimile: (316) 946-4407.

SUPPLEMENTARY INFORMATION:

Discussion

Has FAA taken any action to this point? Reports of cracks in the nose landing gear (NLG) fork on several Raytheon airplanes caused us to issue AD 87-22-01, Amendment 39-5748, and AD 87-22-01 R1, Amendment 39-6312, against certain Raytheon 65, 90, 99, 100, 200, and 1900 series airplanes, and Models 70 and 300 airplanes.

AD 87-22-01 required you to repetitively inspect the nose landing gear (NLG) fork for cracks. If cracks were found during any inspection that exceeded certain limits, you were required to replace the NLG fork with a serviceable part.

AD 87-22-01 R1 retained the repetitive inspection and replacement requirements from AD 87-22-01. AD 87-22-01 R1 also introduced incorporating an improved NLG fork (Kit No. 101-8030-1 S or Kit No. 114-8015-1 S, as applicable) as a terminating action for the repetitive inspection requirements of this AD.

What has happened since AD 87-22-01 R1 to initiate this action? As currently written, AD 87-22-01 R1 allows continued flight if cracks are found in the NLG fork that do not exceed certain limits. In 1996, FAA developed policy to not allow airplane operation when known cracks exist in primary structure, unless the ability to sustain limit and ultimate load with these cracks is proven. The NLG fork is considered primary structure, and the FAA has not received any analysis to prove that limit and ultimate loads can be sustained with cracks in this area.

This AD brings the actions of AD 87-22-01 R1 in compliance with FAA policy. Therefore, FAA has determined the crack limits contained in AD 87-22-01 R1 should be eliminated and that AD action should be taken to require immediate incorporation of Kit No. 101-8030-1 S or Kit No. 114-8015-1 S, as applicable, anytime a crack is found.

This policy did not exist when we issued AD 87-22-01 and AD 87-22-01 R1.

What is the potential impact if FAA took no action? This condition, if not detected and corrected, could cause failure of the NLG fork to carry design limit and ultimate loads. Failure of the NLG fork could result in loss of control of the airplane during take off, landing, and taxi operations.

Has FAA taken any action to this point? We issued a proposal to amend part 39 of the Federal Aviation Regulations (14 CFR part 39) to include an AD that would apply to certain Raytheon Aircraft Company (Raytheon) 65, 90, 99, 100, 200, and 1900 series airplanes, and Models 70 and 300 airplanes. This proposal was published in the Federal Register as a notice of proposed rulemaking (NPRM) on March 18, 2004 (12807). The NPRM proposed to require you to repetitively inspect the nose landing gear (NLG) fork for cracks replacing the NLG fork assembly anytime cracks are found.

Comments

Was the public invited to comment? We provided the public the opportunity to participate in developing this AD. The following presents the comments received on the proposal and FAA's response to each comment:

Comment Issue No. 1: Clarify the Applicability

What is the commenter's concern? The commenter states the compliance statement in paragraph (e)(1) of the proposed AD is confusing. The compliance statement requires an initial inspection of the nose landing gear (NLG) fork assembly for any signs of cracks on airplanes not previously affected by AD 87-22-01 R1. This inspection is required within the next 200 hours time-in-service (TIS) after the effective date of this AD. However, it is also stated later in the proposed AD that incorporation of Kit No. 101-8030-1 S or Kit No. 114-8015-1 S (as applicable) is a terminating action to the requirements of the AD and no further action is required. The commenter states that it does not make sense to comply with the initial inspection if you have already done the terminating action.

The commenter states the reason that AD 87-22-01 R1 did not affect most airplanes is because they incorporate Kit No. 101-8030-1 S or Kit No. 114-8015-1 S (as applicable).

We infer the commenter wants more clarification to exempt airplanes that incorporate Kit No. 101-8030-1 S or Kit No. 114-8015-1 S (as applicable) from the applicability of the AD.

What is FAA's response to the concern? We agree that additional clarification may help remove confusion about the need to comply with the initial inspection required in the proposed AD. The proposed AD was written to account for the different set of serial numbers affected by AD 87-22-01 R1 and the proposed AD.

We will add a statement to paragraph (c) and (e)(1) to clarify that airplanes that already incorporate Kit No. 101-8030-1 S or Kit No. 114-8015-1 S (as applicable) are exempt from this AD.

We will change the final rule AD based on this comment.

Comment Issue No. 2: Replacement Parts Not Available

What is the commenter's concern? The commenter states that in April 2004, Raytheon Aircraft Company (Raytheon) did not have a supply of replacements kits available. The commenter is concerned that a shortage of replacement kits could ground the affected airplanes.

We infer the commenter wants us to confirm the availability and supply of replacements kits before issuing the final rule AD.

What is FAA's response to the concern? We concur with the commenter that a low supply of replacement kits would be a problem. However, on the effective date of this AD, Raytheon has assured us that replacement kits will be available.

We are not changing the final rule AD based on this comment.

Comment Issue No. 3: Revise the Proposed AD

What is the commenter's concern? The commenter states that AD 87-22-01 R1 sufficiently addresses inspecting and monitoring cracks in the nose landing gear (NLG) fork. The commenter states that no failures occurred after using the procedures and crack limitations set in AD 87-22-01 R1. The commenter adds that he has several hundred thousands of hours of experience with numerous affected airplanes with only three or four cracks found in the past 20 years.

The commenter also disagrees with the FAA's policy (since 1996) to disallow airplane operation when known cracks exist in a primary structure. The commenter states the policy is not justified by quantifiable resulting safety improvements and needs to be revised.

The commenter states the proposed AD imposes an unnecessary economic burden upon the owners/operators of the affected airplanes.

The commenter wants AD 87-22-01 R1 to remain in place since it allows a reasonable period of time after discovering a crack to obtain and install a replacement kit.

What is FAA's response to the concern? We do not concur with the commenter. In 1996, FAA developed policy to not allow airplane operation when known cracks exist in primary structure, unless the ability to sustain limit and ultimate load with these cracks is proven. The NLG fork is considered primary structure, and the FAA has not received any analysis to prove that limit and ultimate loads can be sustained with cracks in this area. For this reason, the FAA has determined the crack limits contained in AD 87-22-01 R1 should be eliminated and that AD action should be taken to require immediate incorporation of Kit No. 101-8030-1 S or Kit No. 114-8015-1 S (as applicable) anytime a crack is found.

We are not changing the final rule AD based on this comment.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 5,296 airplanes in the U.S. registry.

What is the cost impact of this AD on owners/operators of the affected airplanes? We estimate the following costs to accomplish the inspection:

Labor cost | Parts cost | Total cost per airplane | Total cost on U.S. operators
2 workhours × $65 per hour = $130 | Not applicable | $130 | $130 × 5,296 = $688,480.

We estimate the following costs to accomplish any necessary replacements that will be required based on the results of this inspection. We have no way of determining the number of airplanes that may need this repair/replacement:

Labor cost | Parts cost | Total cost per kit
4 workhours × $65 per hour = $260 | Kit No. 101-8030-1 S = $4,152 | Kit No. 101-8030-1 S: $260 + $4,152 = $4,412.
| Kit No. 114-8015-1 S = $4,210 | Kit No. 114-8015-1 S: $260 + $4,210 = $4,470.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-51-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 87-22-01 R1, Amendment 39-6312, and by adding a new AD to read as follows:

2004-23-02 Raytheon Aircraft Company: Amendment 39-13857; Docket No. 2003-CE-51-AD.

When Does This AD Become Effective?

(a) This AD becomes effective on December 23, 2004.

What Other ADs Are Affected by This Action?

(b) This AD supersedes AD 87-22-01 R1, Amendment 39-6312.

What Airplanes Are Affected by This AD?

(c) This AD affects the following airplane models and serial numbers that:

(1) Do not incorporate Kit No. 1001-8030-1 S or Kit No. 114-8015-1 S (as applicable); and

(2) Are certificated in any category:

Model | Serial numbers
(i) A65 and A65-8200 | LC-240 through LC-335.
(ii) 70 | LB-1 through LB-35.
(iii) 65-A80, 65-A80-8800, and 65-B80 | LD-151 through LD-511.
(iv) 65-88 | LP-1 through LP-26, LP-28, and LP-30 through LP-47.
(v) 65-90, 65-A90, B90, C90, and C90A | LJ-1 through LJ-1190.
(vi) 65-A90-1 (U-21A, JU-21A, U-21G, RU-21A, RU-21D, and RU-21H) | LM-1 through LM-141.
(vii) 65-A90-2 (RU-21B) | LS-1 through LS-3.
(viii) 65-A90-3 (RU-21C) | LT-1 and LT-2.
(ix) 65-A90-4 (RU-21E and RU-21H) | LU-1 through LU-15.
(x) E90 | LW-1 through LW-347.
(xi) F90 | LA-2 through LA-236.
(xii) H90 (T-44A) | LL-1 through LL-61.
(xiii) 99, 99A, A99, A99A, B99, and C99 | U-1 through U-239.
(xiv) 100 and A100 | B-2 through B-93, and B-100 through B-247.
(xv) A100 (U-21F) | B-95 through B-99.
(xvi) A100-1 (U-21J) | BB-3 through BB-5.
(xvii) B100 | BE-1 through BE-137.
(xviii) 200 and B200 | BB-2, and BB-6 through BB-1314.
(xix) 200C and B200C | BL-1 through BL-72, and BL-124 through BL-131.
(xx) 200CT and B200CT | BN-1 through BN-4.
(xxi) 200T and B200T | BT-1 through BT-33.
(xxii) A200 (C-12A and C-12C) | BC-1 through BC-75 and BD-1 through BD-30.
(xxiii) A200C (UC-12B) | BJ-1 through BJ-66.
(xxiv) A200CT (C-12D, FWC-12D, and C-12F) | BP-1, BP-7 through BP-11, BP-19, and BP-24 through BP-63.
(xxv) A200CT (RC-12D and RC-12H) | GR-1 through GR-19.
(xxvi) A200CT (RC-12G) | FC-1 through FC-3.
(xxvii) A200CT (RC-12K) | FE-1 through FE-9.
(xxviii) B200C (C-12F) | BL-73 through BL-112, BL-118 through BL-123, and BP-64 through BP-71.
(xxix) B200C (UC-12F) | BU-1 through BU-10.
(xxx) B200C (UC-12M) | BV-1 through BV-10.
(xxxi) 300 | FA-1 through FA-168, and FF-1 through FF-19.
(xxxii) 1900 | UA-1 through UA-3.
(xxxiii) 1900C | UB-1 through UB-74, and UC-1 through UC-78.
(xxxiv) 1900C (C-12J) | UD-1 through UD-6.

What Is the Unsafe Condition Presented in This AD?

(d) The actions specified in this AD are intended to detect and correct cracks in the nose landing gear (NLG) fork, which could result in reduced structural integrity and failure of the NLG fork to carry design ultimate load. This failure could result in loss of control of the airplane during take off, landing, and taxi operations.

What Must I Do To Address This Problem?

(e) To address this problem, you must do the following:

Actions | Compliance | Procedures
(1) Inspect, using fluorescent liquid penetrant or magnetic particle method, the nose landing gear (NLG) fork assembly for any signs of cracks unless Kit No. 101-8030-1 S or Kit No. 114-8015-1 S (as applicable) is incorporated, then no further action is required. | For airplanes previously affected by AD 87-22-01 R1: Initially inspect within 200 hours time-in-service (TIS) after the last inspection required by AD 87-22-01 R1. For airplanes not previously affected by AD 87-22-01 R1: Initially inspect within the next 200 hours TIS after December 23, 2004 (the effective date of this AD), unless already done. | Follow the instructions in Part II of Raytheon Aircraft Company Mandatory Service Bulletin SB 32-2102, Revision 7, Revised: July, 2003.
(2) If cracks are found during the inspection required in paragraph (e)(1) of this AD, incorporate Kit No. 101-8030-1 S or Kit No. 114-8015-1 S (as applicable). | Before further flight after December 23, 2004 (the effective date of this AD). | Follow the instructions in Part III of Raytheon Aircraft Company Mandatory Service Bulletin SB 32-2102, Revision 7, Revised: July, 2003.
(3) If no cracks are found during the inspection required in paragraph (e)(1) of this AD, repetitively inspect until Kit No. 101-8030-1 S or Kit No. 114-8015-1 S (as applicable) is incorporated. When Kit No. 101-8030-1 S or Kit No. 114-8015-1 S is incorporated, no further action is required. | Repetitively inspect at intervals not to exceed 200 hours TIS after the initial inspection required in paragraph (e)(1) of this AD. Incorporate Kit No. 101-8030-1 S or Kit No. 114-8015-1 S (as applicable) prior to further flight after any inspection in which cracks are found. | Follow the instructions in Part III of Raytheon Aircraft Company Mandatory Service Bulletin SB 32-2102, Revision 7, Revised: July, 2003.
(4) Incorporating Kit No. 101-8030-1 S or Kit No. 114-8015-1 S (as applicable) is the terminating action for the repetitive inspection requirements specified in paragraph (e)(3) of this AD. | Kit No. 101-8030-1 S or Kit No. 114-8015-1 S (as applicable) can be incorporated at any time. When incorporated, no further action is required. | Follow Raytheon Aircraft Company Mandatory Service Bulletin SB 32-2102, Revision 7, Revised: July, 2003.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Steven E. Potter, Aerospace Engineer, Wichita ACO, FAA, 1801 Airport Road, Wichita, Kansas 67209; telephone: (316) 946-4124; facsimile: (316) 946-4407.

Does This AD Incorporate Any Material by Reference?

(g) You must do the actions required by this AD following the instructions in Raytheon Aircraft Company Mandatory Service Bulletin SB 32-2102, Revision 7, Revised: July, 2003. The Director of the Federal Register approved the incorporation by reference of this service bulletin in accordance with 5 U.S.C. 552(a) and 1 CFR part 51. You may get a copy from Raytheon Aircraft Company, 9709 E. Central, Wichita, Kansas 67201-0085; telephone: (800) 429-5372 or (316) 676-3140. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Issued in Kansas City, Missouri, on November 1, 2004.
James E. Jackson,
Acting Manager, Small Airplane Directorate, Aircraft Certification Service.

[FR Doc. 04-24718 Filed 11-8-04; 8:45 am]

BILLING CODE 4910-13-P